DEPARTMENT OF ENERGY

Federal Energy Regulatory Commission

Combined Notice of Filings

Take notice that the Commission has received the following Natural Gas Pipeline Rate and Refund Report filings:

Filings Instituting Proceedings

Docket Number: PR19-53-000.

Applicants: Salt Plains Storage, LLC.

Description: Tariff filing per 284.123(b),(e)+(g): Salt Plains Revised SOC to be effective 4/1/2019.

Filed Date: 4/1/19.

Accession Number: 201904015149.

Comments Due: 5 p.m. ET 4/22/19.

284.123(g) Protests Due: 5 p.m. ET 5/31/19.

Docket Number: PR19-41-001.

Applicants: Altus Midstream Pipeline LP.

Description: Tariff filing per 284.123(b),(e)+(g): Amendment to Notice of Name Change and Revised Statement of Operating Conditions to be effective 2/14/2019.

Filed Date: 3/29/19.

Accession Number: 201903295452.

Comments Due: 5 p.m. ET 4/19/19.

284.123(g) Protests Due: 5 p.m. ET 4/23/19.

Docket Numbers: RP19-1100-000.

Applicants: HG Energy II Appalachia, LLC, Diversified Gas & Oil Corporation.

Description: Joint Petition for Limited Transaction-Specific Waivers of Commission Policies, Capacity Release Regulations and Tariff Provisions, et al. of HG Energy II Appalachia, LLC, et al. under RP19-1100.

Filed Date: 4/1/19.

Accession Number: 20190401-5655.

Comments Due: 5 p.m. ET 4/8/19.

Docket Numbers: RP19-1105-000.

Applicants: Texas Gas Transmission, LLC.

Description: § 4(d) Rate Filing: Superseding Negotiated Rate Agreement (CIMA 37856) to be effective 4/1/2019.

Filed Date: 4/3/19.

Accession Number: 20190403-5054.

Comments Due: 5 p.m. ET 4/15/19.

Docket Numbers: RP19-1106-000.

Applicants: Natural Gas Pipeline Company of America.

Description: § 4(d) Rate Filing: Removal of Expired Agreements—to be effective 5/6/2019.

Filed Date: 4/4/19.

Accession Number: 20190404-5000.

Comments Due: 5 p.m. ET 4/16/19.

Docket Numbers: RP19-1107-000.

Applicants: No Applicants listed for this docket/subdocket.

Description: Compliance filing Annual Report of Flow Through filed 4-4-19 to be effective N/A.

Filed Date: 4/4/19.

Accession Number: 20190404-5011.

Comments Due: 5 p.m. ET 4/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2019.
Nathaniel J. Davis, Sr.,
Deputy Secretary.

[FR Doc. 2019-07087 Filed 4-9-19; 8:45 am]

BILLING CODE 6717-01-P